DEPARTMENT OF JUSTICE

Antitrust Division

Notice Pursuant to The National Cooperative Research and Production Act of 1993—Countering Weapons of Mass Destruction

Notice is hereby given that, on July 10, 2023, pursuant to section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Beacon Industries, Inc., Newington, CT; Charles River Analytics, Inc., Cambridge, MA; Culmen International LLC, Alexandria, VA; Flambeau Diagnostics LLC, Madison, WI; M2DCON, Inc., Lakewood, OH; Polaris Sensor Technologies, Inc., Huntsville, AL; Powerhouse Consulting Group LLC, Ellicott City, MD; Stratom, Inc., Louisville, CO; Systematic, Inc., Centreville, VA; and University of Nebraska Medical Center, Omaha, NE, have been added as parties to this venture.

Also, Expedition Technology, Inc., Herndon, VA; Kuprion, Inc., San Jose, CA; PAE National Security Solutions, Fredericksburg, VA; and Science and Technology Corp., Hampton, VA, have withdrawn as parties to this venture.

No other changes have been made in either the membership or planned activity of the group research project. Membership in this group research project remains open, and CWMD intends to file additional written notifications disclosing all changes in membership.

On January 31, 2018, CWMD filed its original notification pursuant to section 6(a) of the Act. The Department of Justice published a notice in the Federal Register pursuant to section 6(b) of the Act on March 12, 2018 (83 FR 10750).

The last notification was filed with the Department on April 3, 2023. A notice was published in the Federal Register pursuant to section 6(b) of the Act on June 12, 2023 (88 FR 38098).

Suzanne Morris,
Deputy Director Civil Enforcement Operations, Antitrust Division.

[FR Doc. 2023-20774 Filed 9-25-23; 8:45 am]

BILLING CODE P